MARINE MAMMAL COMMISSION

Sunshine Act Notice

Time and Date: The Marine Mammal Commission and its Committee of Scientific Advisors on Marine Mammals will meet on Wednesday, 12 October 2005, and Thursday, 13 October 2005, from 8:30 a.m. to 6 p.m. The Commission and Committee will meet on Friday, 14 October 2005, from 8:30 a.m. to 4 p.m. The meetings are open to the public. The executive session of the Commission and the Committee meeting will be held on Friday, 14 October 2005, from 4:30 p.m. to 6:30 p.m.

Place: Anchorage Hilton Hotel, 500 West Third Avenue, Anchorage, Alaska 99501; telephone: 907-272-7411; fax: 907-265-7140.

Status: The executive session will be closed to the public. At it, matters relating to international negotiations in process, personnel, and the budget of the Commission will be discussed. All other portions of the meeting will be open to public observation. Public participation will be allowed as time permits and as determined to be desirable by the Chairman.

Matters to be Considered: The Commission and Committee will meet in public session to discuss a broad range of marine ecosystem and marine mammal matters. While subject to change, major issues that the Commission plans to consider at the meeting include the effects of climate change, coastal development, and contaminants and disease on marine mammal populations; Alaska Native subsistence and co-management; issues related to fishing and interactions with marine mammals; and conservation of certain marine mammal species, including Stellar sea lions, northern fur seals, harbor seals, ice seals, Pacific walruses, polar bears, sea otters, Cook Inlet beluga whales, North Pacific right whales, and bowhead whales.

FOR MORE INFORMATION CONTACT: David Cottingham, Executive Director, Marine Mammal Commission, 4340 East-West Highway, Room 905, Bethesda, MD 20814, 301-504-0087.

Dated: September 19, 2005.
David Cottingham,
Executive Director.

[FR Doc. 05-18950 Filed 9-19-05; 12:15 pm]

BILLING CODE 6820-31-M